DEPARTMENT OF HOMELAND SECURITY

Federal Emergency Management Agency

[Docket ID FEMA-2014-0002]

Changes in Flood Hazard Determinations

AGENCY: Federal Emergency Management Agency, DHS.

ACTION: Final notice.

SUMMARY: New or modified Base (1% annual-chance) Flood Elevations (BFEs), base flood depths, Special Flood Hazard Area (SFHA) boundaries or zone designations, and/or the regulatory floodway (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: The effective date for each LOMR is indicated in the table below.

ADDRESSES: Each LOMR is available for inspection at both the respective Community Map Repository address listed in the table below and online through the FEMA Map Service Center at www.msc.fema.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and ninety (90) days have elapsed since that publication. The Deputy Associate Administrator for Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard determinations are the basis for the floodplain management measures that the community is required either to adopt or to show evidence of being already in effect in order to remain qualified for participation in the National Flood Insurance Program (NFIP).

These new or modified flood hazard determinations, together with the floodplain management criteria required by 44 CFR 60.3, are the minimum that are required. They should not be construed to mean that the community must change any existing ordinances that are more stringent in their floodplain management requirements. The community may at any time enact stricter requirements of its own or pursuant to policies established by other Federal, State, or regional entities.

These new or modified flood hazard determinations are used to meet the floodplain management requirements of the NFIP and also are used to calculate the appropriate flood insurance premium rates for new buildings, and for the contents in those buildings. The changes in flood hazard determinations are in accordance with 44 CFR 65.4.

Interested lessees and owners of real property are encouraged to review the final flood hazard information available at the address cited below for each community or online through the FEMA Map Service Center at www.msc.fema.gov.

State and county | Location and case No. | Chief executive officer of community | Community map repository | Effective date of modification | Community No.
Arkansas:
White (FEMA Docket No.: B-1406) | City of Searcy, (13-06-2147P) | The Honorable David Morris, Mayor, City of Searcy, 401 West Arch Avenue, Searcy, AR 72143 | City Hall, 401 West Arch Avenue, Searcy, AR 72143 | May 5, 2014 | 050229
White, (FEMA Docket No.: B-1406) | Unincorporated areas of White County, (13-06-2147P) | The Honorable Michael Lincoln, White County Judge, 300 North Spruce Street, Searcy, AR 72143 | White County Office Building, Department of Emergency Management, 2301 Eastline Road, Searcy, AR 72143 | May 5, 2014 | 050467
New Jersey: Monmouth, (FEMA Docket No.: B-1408) | Borough of Shrewsbury, (13-02-1926P) | The Honorable Donald W. Burden, Mayor, Borough of Shrewsbury, P.O. Box 7420, Shrewsbury, NJ 07702 | Borough Municipal Complex, 419 Sycamore Avenue, Shrewsbury, NJ 07702 | May 27, 2014 | 340326
New Mexico:
Bernalillo (FEMA Docket No.: B-1405) | City of Albuquerque, (13-06-2926P) | The Honorable Richard J. Berry, Mayor, City of Albuquerque, P.O. Box 1293, Albuquerque, NM 87103 | Development and Review Services Division, 600 2nd Street Northwest, Room 201, Albuquerque, NM 87102 | May 5, 2014 | 350002
Bernalillo (FEMA Docket No.: B-1405) | Unincorporated areas of Bernalillo County, (13-06-2994P) | The Honorable Debbie O'Malley, Chairman, Bernalillo County Board of Commissioners, 1 Civic Plaza Northwest, Albuquerque, NM 87102 | Bernalillo County Public Works Division, 2400 Broadway Boulevard Southeast, Albuquerque, NM 87102 | May 1, 2014 | 350001
Bernalillo (FEMA Docket No.: B-1405) | Unincorporated areas of Bernalillo County, (13-06-2926P) | The Honorable Debbie O'Malley, Chairman, Bernalillo County Board of Commissioners, 1 Civic Plaza Northwest, Albuquerque, NM 87102 | Bernalillo County Public Works Division, 2400 Broadway Boulevard Southeast, Albuquerque, NM 87102 | May 5, 2014 | 350001
Oklahoma: Tulsa (FEMA Docket No.: B-1406) | City of Tulsa, (13-06-3500P) | The Honorable Dewey F. Bartlett, Mayor, City of Tulsa, 175 East 2nd Street, Suite 690, Tulsa, OK 74103 | Engineering Services, 2317 South Jackson Avenue, Room S-312, Tulsa, OK 74107 | May 14, 2014 | 405381
Puerto Rico: (FEMA Docket No.: B-1405) | Commonwealth of Puerto Rico, (13-02-1051P) | Mr. Luis Garcia Pelatti, President, Puerto Rico Planning Board, Roberto Sanchez Vilella Governmental Center, North Building, 16th Floor, De Diego Avenue, International Baldorioty de Castro Avenue, San Juan, PR 00940 | Commonwealth of Puerto Rico, Roberto Sanchez Vilella Governmental Center, North Building, 9th Floor, De Diego Avenue, International Baldorioty de Castro Avenue, San Juan, PR 00940 | May 29, 2014 | 720000
Texas:
Bexar (FEMA Docket No.: B-1408) | City of Helotes, (13-06-4596P) | The Honorable Thomas A. Schoolcraft, Mayor, City of Helotes, P.O. Box 507, Helotes, TX 78023 | Development Services Department, 12951 Bandera Road, Helotes, TX 78023 | May 1, 2014 | 481643
Bexar (FEMA Docket No.: B-1408) | City of San Antonio, (13-06-4596P) | The Honorable Julian Castro, Mayor, City of San Antonio, P.O. Box 839966, San Antonio, TX 78283 | Department of Public Works, Storm Water Engineering, 1901 South Alamo Street, 2nd Floor, San Antonio, TX 78204 | May 1, 2014 | 480045
Bexar (FEMA Docket No.: B-1405) | Unincorporated areas of Bexar County, (13-06-3877P) | The Honorable Nelson W. Wolff, Bexar County Judge, Paul Elizondo Tower, 101 West Nueva Street, 10th Floor, San Antonio, TX 78205 | Bexar County Public Works Department, 233 North Pecos-La Trinidad Street, Suite 420, San Antonio, TX 78207 | May 27, 2014 | 480035
Brazos (FEMA Docket No.: B-1406) | City of Bryan, (12-06-1920P) | The Honorable Jason Bienski, Mayor, City of Bryan, 300 South Texas Avenue, Bryan, TX 77803 | 300 South Texas Avenue, Bryan, TX 77803 | May 9, 2014 | 480082
Brazos (FEMA Docket No.: B-1406) | Unincorporated areas of Brazos County, (12-06-1920P) | The Honorable Duane Peters, Brazos County Judge, 200 South Texas Avenue, Suite 332, Bryan, TX 77803 | Brazos County, 2617 Highway 21 West, Bryan, TX 77803 | May 9, 2014 | 481195
Collin (FEMA Docket No.: B-1405) | City of Frisco, (13-06-2575P) | The Honorable Maher Maso, Mayor, City of Frisco, 6101 Frisco Square Boulevard, Frisco, TX 75034 | City Hall, 6101 Frisco Square Boulevard, Frisco, TX 75034 | May 27, 2014 | 480134
Comal (FEMA Docket No.: B-1406) | Unincorporated areas of Comal County, (13-06-2849P) | The Honorable Sherman Krause, Comal County Judge, 150 North Seguin Avenue, New Braunfels, TX 78130 | Comal County, Engineer's Office, 195 David Jonas Drive, New Braunfels, TX 78132 | May 5, 2014 | 485463
Dallas (FEMA Docket No.: B-1406) | City of Irving, (13-06-1919P) | The Honorable Beth Van Duyne, Mayor, City of Irving, 825 West Irving Boulevard, Irving, TX 75060 | Capital Improvement Program Department, 825 West Irving Boulevard, Irving, TX 75060 | April 28, 2014 | 480180
Smith (FEMA Docket No.: B-1405) | City of Tyler, (13-06-3378P) | The Honorable Martin Heines, Mayor, City of Tyler, P.O. Box 2039, Tyler, TX 75710 | 423 West Ferguson Street, Tyler, TX 75710 | May 27, 2014 | 480571
Smith (FEMA Docket No.: B-1405) | Unincorporated areas of Smith County, (13-06-3378P) | The Honorable Joel Baker, Smith County Judge, 200 East Ferguson Street, Suite 100, Tyler, TX 75702 | Smith County Road and Bridge Department, 1700 West Claude Street, Tyler, TX 75702 | May 27, 2014 | 481185
Tarrant (FEMA Docket No.: B-1408) | City of Forest Hill, (14-06-0893X) | The Honorable Gerald Joubert, Mayor, City of Forest Hill, 3219 California Parkway, Forest Hill, TX 76119 | City Hall, 3219 California Parkway, Forest Hill, TX 76119 | May 29, 2014 | 480595
Tarrant (FEMA Docket No.: B-1406) | City of Fort Worth, (12-06-3580P) | The Honorable Betsy Price, Mayor, City of Fort Worth, 1000 Throckmorton Street, Fort Worth, TX 76102 | Department of Transportation and Public Works, 1000 Throckmorton Street, Fort Worth, TX 76102 | March 25, 2014 | 480596
Tarrant (FEMA Docket No.: B-1406) | City of Fort Worth, (12-06-1991P) | The Honorable Betsy Price, Mayor, City of Fort Worth, 1000 Throckmorton Street, Fort Worth, TX 76102 | Department of Transportation and Public Works, 1000 Throckmorton Street, Fort Worth, TX 76102 | April 7, 2014 | 480596
Tarrant (FEMA Docket No.: B-1408) | City of Fort Worth, (13-06-3009P) | The Honorable Betsy Price, Mayor, City of Fort Worth, 1000 Throckmorton Street, Fort Worth, TX 76102 | Department of Transportation and Public Works, 1000 Throckmorton Street, Fort Worth, TX 76102 | May 29, 2014 | 480596
Tarrant (FEMA Docket No.: B-1408) | City of Mansfield, (13-06-2771P) | The Honorable David L. Cook, Mayor, City of Mansfield, 1200 East Broad Street, Mansfield, TX 76063 | City Hall, 1200 East Broad Street, Mansfield, TX 76063 | May 16, 2014 | 480606
Tarrant (FEMA Docket No.: B-1406) | Unincorporated areas of Tarrant County, (12-06-3580P) | The Honorable B. Glen Whitley, Tarrant County Judge, 100 East Weatherford Street, Suite 501, Fort Worth, TX 76196 | Tarrant County Public Works Department, Administration Building, 100 East Weatherford Street, Fort Worth, TX 76196 | March 25, 2014 | 480582
Victoria (FEMA Docket No.: B-1405) | City of Victoria, (13-06-3977P) | The Honorable Paul Polasek, Mayor, City of Victoria, P.O. Box 1758, Victoria, TX 77902 | Department of Development Services, 702 North Main Street, Suite 122, Victoria, TX 77901 | May 30, 2014 | 480638
Virginia: Alleghany (FEMA Docket No.: B-1406) | Town of Clifton Forge, (12-03-1156P) | The Honorable Carl Brinkley, Mayor, Town of Clifton Forge, P.O. Box 631, Clifton Forge, VA 24422 | Town Hall, 547 Main Street, Clifton Forge, VA 24422 | February 27, 2014 | 510038

(Catalog of Federal Domestic Assistance No. 97.022, “Flood Insurance.”)

Dated: June 17, 2014.
Roy E. Wright,
Deputy Associate Administrator for Mitigation, Department of Homeland Security, Federal Emergency Management Agency.

[FR Doc. 2014-15834 Filed 7-7-14; 8:45 am]

BILLING CODE 9110-12-P